NATIONAL WOMEN'S BUSINESS COUNCIL

Data Collection Available for Public Comments

ACTION: 60-Day notice and request for comments.

SUMMARY: The National Women's Business Council (NWBC or Council) intends to request approval from the Office of Management and Budget (OMB) for the collection of information described below. Under the Paperwork Reduction Act of 1995 (the PRA), federal agencies are required to publish notice in the Federal Register concerning each proposed collection of information (including each proposed extension or reinstatement of an existing collection of information) and to allow 60 days for public comment on the proposed action.

DATES: Comments must on or before July 25, 2017.

ADDRESSES: Send all comments to Annie Rorem, Senior Research Manager, National Women's Business Council, Small Business Administration, 409 3rd Street, 5th Floor, Washington, DC 20416.

FOR FURTHER INFORMATION CONTACT: Annie Rorem, Senior Research Manager, National Women's Business Council, annie.rorem@nwbc.gov, 202-205-6829 or Curtis B. Rich, Management Analyst, curtis.rich@sba.gov, 202-205-7030.

SUPPLEMENTARY INFORMATION:

Background

NWBC is a non-partisan federal advisory council created to serve as an independent source of advice and counsel to the President, Congress, and the U.S. Small Business Administration (SBA) on economic issues of importance to women business owners. The Council's mission is to promote initiatives, policies, and programs designed to support women's business enterprises at all stages of development in the public and private sector marketplaces—from start-up to success. NWBC is charged with providing sound policy advice related to its mission by statutory authority 15 U.S.C. 7105 and 15 U.S.C. 7109a, with conducting “such studies and other research relating to the award of federal prime contracts and subcontracts to women-owned businesses, to access to credit and investment capital by women entrepreneurs, or to other issues relating to women-owned businesses, as the Council determines to be appropriate.”

As part of its efforts, NWBC seeks to complement data resources available from the Census Bureau's Survey of Small Business Owners and Self-Employed Persons (SBO). Although the SBO is widely recognized as the most comprehensive, regularly collected source of information on selected economic and demographic characteristics for businesses and business owners by gender, ethnicity, race, and veteran status, the proposed NWBC information collection will add to the data collected, in terms of both methodology and timeliness. A new annual Web survey, which will collect information across a representative sample of business owners, including both women and men, will enhance information gathering on factors such as challenges to business start-up and growth, motivation, and economic impacts related to women entrepreneurship in the United States. This survey will also provide a comprehensive review of business ownership, including business owners' characteristics, types of businesses and economic impact.

Solicitation of Public Comments. Interested persons are invited to send comments regarding the burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Summary of Information Collection

Title: National Women's Business Council Survey Development on Women-Owned and Led Businesses.

Description of Respondents: Owners of privately-held small businesses.

Total Estimated Annual Responses: 12,131.

Total Estimated Annual Hour Burden: 1,348.

Curtis B. Rich,
Management Analyst.

[FR Doc. 2017-10894 Filed 5-25-17; 8:45 am]

BILLING CODE 8025-01-P